NUCLEAR REGULATORY COMMISSION

[Docket No. 50-285; NRC-2015-0261]

Omaha Public Power District; Fort Calhoun Station, Unit No. 1

AGENCY: Nuclear Regulatory Commission.

ACTION: License amendment application; withdrawal by applicant.

SUMMARY: The U.S. Nuclear Regulatory Commission (NRC) has granted the request of Omaha Public Power District to withdraw its application dated September 10, 2015, for a proposed amendment to Facility Operating License No. DPR-40. The proposed amendment would have revised the Updated Safety Analysis Report (USAR) to allow the use of the equipment classification methodology in industry standard American National Standards Institute/American Nuclear Society (ANSI/ANS)-58.14-2011, “Safety and Pressure Integrity Classification Criteria for Light Water Reactors.”

DATES: June 30, 2016.

ADDRESSES: Please refer to Docket ID NRC-2015-0261 when contacting the NRC about the availability of information regarding this document. You may obtain publicly-available information related to this document using any of the following methods:

• Federal Rulemaking Web site: Go to http://www.regulations.gov and search for Docket ID NRC-2015-0261. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Carl F. Lyon, Office of Nuclear Reactor Regulation, U.S. Nuclear Regulatory Commission, Washington, DC 20555-0001; telephone 301-415-2296, email: Fred.Lyon@nrc.gov.

SUPPLEMENTARY INFORMATION:

The NRC has granted the request of Omaha Public Power District (the licensee) to withdraw its September 10, 2015, application (ADAMS Accession No. ML15258A680), for proposed amendment to Facility Operating License No. DPR-40 for the Fort Calhoun Station, Unit No. 1, located in Washington County, Nebraska.

The proposed amendment would have revised the USAR to allow the use of the equipment classification methodology in industry standard ANSI/ANS-58.14-2011, “Safety and Pressure Integrity Classification Criteria for Light Water Reactors.”

The licensee's application was previously noticed in the Federal Register on November 24, 2015 (80 FR 73238). The licensee provided a response to an NRC staff request for additional information related to this action on April 8, 2016, and a request to withdraw the application on June 20, 2016 (ADAMS Accession Nos. ML16099A173 and ML16172A279, respectively).

Dated at Rockville, Maryland, this 24th day of June 2016.
For the Nuclear Regulatory Commission.
Carl F. Lyon,
Project Manager, Plant Licensing Branch IV-1, Division of Operating Reactor Licensing, Office of Nuclear Reactor Regulation.

[FR Doc. 2016-15544 Filed 6-29-16; 8:45 am]

BILLING CODE 7590-01-P